DEPARTMENT OF ENERGY

Federal Energy Regulatory Commission

[Docket No. AD10-7-000]

ILP Effectiveness Evaluation 2010; Additional Notice of Multi-Stakeholder Technical Conference on the Integrated Licensing Process

October 21, 2010.

As announced in the May 18, 2010, “Notice of Interviews, Teleconferences, Regional Workshops And Multi-Stakeholder Technical Conference On The Integrated Licensing Process,” a technical conference will be held on November 3, 2010, from 11 a.m. (EST) to 3 p.m. (EST) in the Commission Meeting Room at the Federal Energy Regulatory Commission, 888 First Street, NE., Washington, DC 20426. While we encourage interested parties to attend the technical conference in person, a limited number of phone lines will be available on a first-come-first-serve basis for interested parties to participate via teleconference. If you would like to participate via teleconference, e-mail Stephanie Obadia at sobadia@kearnswest.com by October 29, 2010 to receive the toll-free telephone number and password to join the teleconference. Also, please register to attend the technical conference by e-mailing Stephanie Obadia at sobadia@kearnswest.com by October 29, 2010.

For more information about this conference, please contact David Turner at (202) 502-6091 or david.turner@ferc.gov.

Kimberly D. Bose,
Secretary.

[FR Doc. 2010-27399 Filed 10-28-10; 8:45 am]

BILLING CODE 6717-01-P